DEPARTMENT OF ENERGY

Federal Energy Regulatory Commission

Combined Notice of Filings #1

Take notice that the Commission received the following electric corporate filings:

Docket Numbers: EC11-52-000

Applicants: AES Huntington Beach, LLC

Description: Application of AES Huntington Beach, LLC.

Filed Date: 03/17/2011

Accession Number: 20110317-5133

Comment Date: 5 p.m. Eastern Time on Thursday, April 07, 2011

Take notice that the Commission received the following electric rate filings:

Docket Numbers: ER10-2578-004

Applicants: Fox Energy Company, LLC

Description: Fox Energy Company, LLC submits tariff filing per 35: MBR Tariff Compliance Filing to be effective 9/10/2010.

Filed Date: 02/22/2011

Accession Number: 20110222-5191

Comment Date: 5 p.m. Eastern Time on Friday, March 25, 2011

Docket Numbers: ER10-3357-001

Applicants: Entergy Arkansas, Inc.

Description: Entergy Arkansas, Inc. submits tariff filing per 35.17(b): Errata to 676-E Compliance Filing to be effective 4/1/2011.

Filed Date: 03/17/2011

Accession Number: 20110317-5090

Comment Date: 5 p.m. Eastern Time on Thursday, April 07, 2011

Docket Numbers: ER11-2434-001

Applicants: Wisconsin Electric Power Company

Description: Wisconsin Electric Power Company submits tariff filing per 35: FERC Rate Schedule 115 Amended Service Agreement Compliance Filing to be effective 9/9/2011.

Filed Date: 03/17/2011

Accession Number: 20110317-5103

Comment Date: 5 p.m. Eastern Time on Thursday, April 07, 2011

Docket Numbers: ER11-3119-000

Applicants: Northeast Utilities Service Company

Description: Application for Limited Waiver, Shortened Notice Period and Expedited Decision of Northeast Utilities Service Company.

Filed Date: 03/16/2011

Accession Number: 20110316-5114

Comment Date: 5 p.m. Eastern Time on Wednesday, April 06, 2011

Docket Numbers: ER11-3126-000

Applicants: Orange and Rockland Utilities, Inc.

Description: Orange and Rockland Utilities, Inc. submits tariff filing per 35.13(a)(2)(iii: O&R underground filing 2011 to be effective 4/1/2011.

Filed Date: 03/17/2011

Accession Number: 20110317-5020

Comment Date: 5 p.m. Eastern Time on Thursday, April 07, 2011

Docket Numbers: ER11-3126-000

Applicants: Orange and Rockland Utilities, Inc.

Description: Orange and Rockland Utilities, Inc. submits tariff filing per: Supplement to O&R Underground filing to be effective N/A.

Filed Date: 03/17/2011

Accession Number: 20110317-5051

Comment Date: 5 p.m. Eastern Time on Thursday, April 07, 2011

Docket Numbers: ER11-3127-000

Applicants: PJM Interconnection, L.L.C.

Description: PJM Interconnection, L.L.C. submits tariff filing per 35.13(a)(2)(iii: No PJM Queue No.—Original Service Agreement No. 2790 to be effective 2/15/2011.

Filed Date: 03/17/2011

Accession Number: 20110317-5036

Comment Date: 5 p.m. Eastern Time on Thursday, April 07, 2011

Docket Numbers: ER11-3128-000

Applicants: Public Service Company of Colorado

Description: Public Service Company of Colorado submits tariff filing per 35.13(a)(2)(iii: 2011-3-17_Ext_NERC_Std_MOD_029 to be effective 4/1/2011.

Filed Date: 03/17/2011

Accession Number: 20110317-5041

Comment Date: 5 p.m. Eastern Time on Thursday, April 07, 2011

Docket Numbers: ER11-3130-000

Applicants: Southwest Power Pool, Inc.

Description: Southwest Power Pool, Inc. submits tariff filing per 35.13(a)(2)(iii: Revisions to Attachment G, section 8.1—Metering to be effective 5/17/2011.

Filed Date: 03/17/2011

Accession Number: 20110317-5067

Comment Date: 5 p.m. Eastern Time on Thursday, April 07, 2011

Docket Numbers: ER11-3131-000

Applicants: Midwest Independent Transmission System Operator, Inc.

Description: Midwest Independent Transmission System Operator, Inc. submits tariff filing per 35.13(a)(2)(iii): MidAmerican-Lehigh-Webster to be effective 3/18/2011.

Filed Date: 03/17/2011

Accession Number: 20110317-5068

Comment Date: 5 p.m. Eastern Time on Thursday, April 07, 2011

Docket Numbers: ER11-3132-000

Applicants: Midwest Independent Transmission System Operator, Inc.

Description: Midwest Independent Transmission System Operator, Inc. submits tariff filing per 35.13(a)(2)(iii): MidAmerican Neal 3 to be effective 3/18/2011.

Filed Date: 03/17/2011

Accession Number: 20110317-5069

Comment Date: 5 p.m. Eastern Time on Thursday, April 07, 2011

Docket Numbers: ER11-3133-000

Applicants: Southwest Power Pool, Inc.

Description: Southwest Power Pool, Inc. submits tariff filing per 35.13(a)(2)(iii): Westar Revised Formula Rate Template to be effective 1/1/2011.

Filed Date: 03/17/2011

Accession Number: 20110317-5070

Comment Date: 5 p.m. Eastern Time on Thursday, April 07, 2011

Docket Numbers: ER11-3134-000

Applicants: Entergy Services, Inc.

Description: Notice of Cancellation of Entergy Services, Inc.

Filed Date: 03/17/2011

Accession Number: 20110317-5089

Comment Date: 5 p.m. Eastern Time on Thursday, April 07, 2011

Docket Numbers: ER11-3135-000

Applicants: Florida Power & Light Company

Description: Florida Power & Light Company submits tariff filing per 35.12: FPL and FKEC Service Agreement No. 293 to be effective 12/31/9998.

Filed Date: 03/17/2011

Accession Number: 20110317-5091

Comment Date: 5 p.m. Eastern Time on Thursday, April 07, 2011

Docket Numbers: ER11-3136-000

Applicants: Merchant's Plaza Energy, LLC

Description: Merchant's Plaza Energy, LLC submits tariff filing per 35.1: Merchants Plaza FERC Electric Tariff to be effective 3/17/2011.

Filed Date: 03/17/2011

Accession Number: 20110317-5109

Comment Date: 5 p.m. Eastern Time on Thursday, April 07, 2011

Docket Numbers: ER11-3137-000

Applicants: Golden Spread Electric Cooperative, Inc.

Description: Golden Spread Electric Cooperative, Inc. submits tariff filing per 35.13(a)(2)(iii): Revised Wholesale Power Contracts Filing to be effective 5/16/2011.

Filed Date: 03/17/2011

Accession Number: 20110317-5110

Comment Date: 5 p.m. Eastern Time on Thursday, April 07, 2011

Docket Numbers: ER11-3138-000

Applicants: MidAmerican Energy Company

Description: MidAmerican Energy Company submits tariff filing per 35.13(a)(2)(iii): First Revised Service Agreement 385—CB4 Transmission to be effective 3/17/2011.

Filed Date: 03/17/2011

Accession Number: 20110317-5115

Comment Date: 5 p.m. Eastern Time on Thursday, April 07, 2011

Docket Numbers: ER11-3140-000

Applicants: Hydrogen Energy California LLC

Description: Petition for Waiver from CAISO Tariff Provisions and Request for Expedited Ruling of Hydrogen Energy California LLC.

Filed Date: 03/17/2011

Accession Number: 20110317-5132

Comment Date: 5 p.m. Eastern Time on Thursday, March 31, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: March 18, 2011.
Nathaniel J. Davis, Sr.,
Deputy Secretary.

[FR Doc. 2011-7148 Filed 3-25-11; 8:45 am]

BILLING CODE 6717-01-P